SUSQUEHANNA RIVER BASIN COMMISSION

Notice of Actions Taken at December 16, 2010, Meeting

AGENCY: Susquehanna River Basin Commission.

ACTION: Notice of Commission Actions.

SUMMARY: As part of its regular business meeting held on December 16, 2010, in Aberdeen, Maryland, the Commission convened a public hearing, at which took the following actions: (1) Approved settlements involving two water resources projects; (2) approved and tabled certain water resources projects; and (3) rescinded approval for one water resources project.

DATES: December 16, 2010.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) Presentations on Climate Change Initiatives to Protect the Chesapeake Bay; (2) hydrologic conditions in the basin; (3) FY-2012 funding of the Susquehanna Flood Forecast and Warning System; (4) ratification/approval of grants/contracts; (5) approval of proposed natural gas related research projects; (6) a Records Retention Policy; (7) the FY-2010 Audit Report; (8) a recommendation for new independent auditors; and (9) amendment of Commission By-Laws. The Commission heard counsel's report on legal matters affecting the Commission. The Commission also convened a public hearing and took the following actions:

Public Hearing—Compliance Matters

The Commission approved a settlement in lieu of civil penalties for the following projects:

1. Chesapeake Appalachia, LLC.

2. J-W Operating Company. Pad ID: Pardee & Curtin Lumber Co. C-12H, Shippen Township, Cameron County, Pa.—$40,000.

Public Hearing—Rescission of Project Approval

1. Project Sponsor and Facility: Anadarko E&P Company LP (Pine Creek) (Docket No. 20090304), Cummings Township, Lycoming County, Pa.

Public Hearing—Projects Approved

1. Project Sponsor and Facility: Anadarko E&P Company LP (Pine Creek—3), Watson Township, Lycoming County, Pa. Surface water withdrawal of up to 0.720 mgd.

2. Project Sponsor: Aqua Pennsylvania, Inc. Project Facility: Monroe Manor Water System, Monroe Township, Snyder County, Pa. Groundwater withdrawal of up to 0.391 mgd from Well 6.

3. Project Sponsor and Facility: East Resources Management, LLC (Cowanesque River), Westfield Township, Tioga County, Pa. Surface water withdrawal of up to 0.375 mgd.

4. Project Sponsor and Facility: EXCO Resources (PA), LLC (West Branch Susquehanna River), Curwensville Borough, Clearfield County, Pa. Surface water withdrawal of up to 2.000 mgd.

5. Project Sponsor: Hughesville-Wolf Township Joint Municipal Authority. Project Facility: Wastewater Treatment Plant, Wolf Township, Lycoming County, Pa. Withdrawal of treated wastewater effluent of up to 0.249 mgd.

6. Project Sponsor and Facility: Leonard & Jean Marie Azaravich (Meshoppen Creek), Springville Township, Susquehanna County, Pa. Surface water withdrawal of up to 0.249 mgd.

7. Project Sponsor and Facility: LHP Management, LLC (Fishing Creek—Clinton Country Club), Bald Eagle Township, Clinton County, Pa. Modification to increase surface water withdrawal up to 0.999 mgd (Docket No. 20090906).

8. Project Sponsor and Facility: Linde Corporation (Lackawanna River), Fell Township, Lackawanna County, Pa. Surface water withdrawal of up to 0.905 mgd.

9. Project Sponsor and Facility: Ultra Resources, Inc. (Pine Creek), Pike Township, Potter County, Pa. Modification to increase surface water withdrawal up to 0.936 mgd (Docket No. 20090332).

Public Hearing—Project Tabled

1. Project Sponsor and Facility: Peoples Financial Services Corp. (Tunkhannock Creek), Tunkhannock Township, Wyoming County, Pa. Application for surface water withdrawal of up to 0.990 mgd.

Authority: Pub. L. 91-575, 84 Stat. 1509 et seq., 18 CFR parts 806, 807, and 808.

Dated: December 22, 2010.
Thomas W. Beauduy,
Deputy Executive Director.

[FR Doc. 2011-151 Filed 1-7-11; 8:45 am]

BILLING CODE 7040-01-P